DEPARTMENT OF HEALTH AND HUMAN SERVICES

Administration for Children and Families

Proposed Information Collection Activity; Comment Request

Proposed Projects: Native Employment Works (NEW) Program Plan Guidance and Native Employment Works (NEW) Program Report.

Title: Native Employment Works (NEW) Program Plan Guidance and Report Requirements.

OMB No.: 0970-0174.

Description: The Native Employment Works (NEW) program plan is the application for NEW program funding. As approved by the Department of Health and Human Services (HHS), it documents how the grantee will carry out its NEW program. The NEW program plan guidance provides instructions for preparing a NEW program plan and explains the process for plan submission every third year. There are two versions of this plan guidance: One for tribes that include their NEW program in a Public Law 102-477 project, and one for tribes that do not. The primary difference between the guidance documents is in the instructions for how to submit the plan. The NEW program report provides information on the activities and accomplishments of grantees' NEW programs. The NEW program report and instructions specify the program data that NEW grantees report annually.

Respondents: Federally recognized Indian Tribes and Tribal organizations that are NEW program grantees.

Annual Burden Estimates
Instrument | Number of respondents | Number of responses per respondent | Average burden hours per response | Total burden hours
NEW program plan guidance for non-477 Tribes | ¹ 15 | 1 | 29 | 435
NEW program plan guidance for 477 Tribes | ² 11 | 1 | 29 | 319
NEW program report | ³ 45 | 1 | 15 | 675
Estimated Total Annual Burden Hours: |  |  |  | 1,429
¹ We estimate that 45 of the 78 NEW grantees will not include their NEW programs in P.L. 102-477 projects. 48 grantees divided by 3 (because grantees submit the NEW plan once every 3 years) = 15.
² We estimate that 33 of the 78 NEW grantees will include their NEW programs in P.L. 102-77 projects. 31 grantees divided by 3 (because grantees submit the NEW plan once every 3 years) = 11.
³ We estimate that 45 of the 78 NEW grantees will not include their NEW programs in P.L. 102-477 projects and therefore will submit the NEW program report to HHS.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2015-12676 Filed 5-26-15; 8:45 am]

BILLING CODE 4184-01-P